DEPARTMENT OF THE INTERIOR

Fish and Wildlife Service

Notice of Availability of the Draft Comprehensive Conservation Plan and Environmental Assessment for the Cedar Island National Wildlife Refuge in Carteret County, NC

AGENCY: Fish and Wildlife Service, Interior.

ACTION: Notice of availability.

SUMMARY: This notice announces that a Draft Comprehensive Conservation Plan and Environmental Assessment for the Cedar Island National Wildlife Refuge are available for review and comment. The National Wildlife System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

DATES: Individuals wishing to comment on the Draft Comprehensive Conservation Plan and Environmental Assessment for Cedar Island National Wildlife Refuge should do so no later than March 16, 2006. Public comments were requested, considered, and incorporated throughout the planning process in numerous ways. Public outreach has included scoping meetings, a review of the biological program, an ecosystem planning newsletter, and Federal Register notices.

ADDRESSES: Requests for copies of the Draft Comprehensive Conservation Plan and Environmental Assessment should be addressed to Bruce Freske, Refuge Manager, Mattamuskeet National Wildlife Refuge, 38 Mattamuskeet Road, Swan Quarter, North Carolina 27885; Telephone: 252/926-4021; Fax: 252/926-1743. Comments on the draft may be submitted to the above address or via electronic mail to: bruce_freske@fws.gov. Our practice is to make comments, including names and home addresses of respondents, available for public review during regular business hours. Individual respondents may request that we withhold their home addresses from the record, which we will honor to the extent allowed by law.

SUPPLEMENTARY INFORMATION: The Service analyzed three alternatives for managing the refuge and chose Alternative 2 as the preferred alternative.

Proposed goals for the refuge include:

Wildlife, Fish, and Plant Populations. Conserve, protect, and maintain healthy and viable populations of migratory birds, wildlife, fish, and plants, including Federal and State threatened, endangered, and trust species.

Habitat. Protect and enhance diverse habitats, rare plant assemblages, and nursery areas associated with the Pamlico-Core Sounds and the mid-Atlantic coastal plain.

Public use. Develop programs and facilities to increase public use opportunities, including hunting, fishing, wildlife observation, wildlife photography, and environmental education and interpretation.

Resource Protection. Protect refuge resources by limiting impacts of human development and activity on and around Cedar Island National Wildlife Refuge.

Administration. Provide adequate funding and staffing to accomplish refuge goals and objectives.

Also available for review are compatibility determinations for recreational hunting, fishing, wildlife observation, wildlife photography, and environmental education and interpretation.

Alternatives

Alternative 1 proposes to maintain the status quo. The staff would manage marshes and pine forests with prescribed burns conducted by employees from other refugees according to the Fire Management Plan. The refuge would employ a single maintenance worker stationed on the refuge to maintain the buildings and grounds, clean up dumpsites, and pick up litter. Staff from other refuges would survey waterfowl from the air on a routine basis. The refuge would conduct no other surveys of wildlife or habitats. The refuge would allow all six priority public use activities: waterfowl hunting, fishing, wildlife observation, wildlife photography, and environmental education and interpretation. The staff would not conduct environmental education and interpretation programs, but would allow others to conduct programs on the refuge. The Service would manage the refuge from Mattamuskeet National Wildlife Refuge.

Alternative 2, the preferred alternative, proposes minimum program increases. The refuge would document the presence of priority wildlife species, but would not monitor habitat. Staff would survey waterfowl from the air on a routine basis. The refuge would continue to allow the six priority public use activities, but would have the capacity to increase the number of opportunities. The staff would conduct environmental education programs once a month. An interpretive and observation trail with a brochure and a photo blind would be established. The staff would also control dominant pest plants and animals. There would be four staff members stationed at the Cedar Island National Wildlife Refuge.

Alternative 3 proposes moderate program increases. The refuge would document the presence of priority wildlife species and mammals and monitor fire-dependent habitats. The staff would monitor vegetation in the marshes and pine forests before and after prescribed burns conducted by staff from other refuges according to the Fire Management Plan. Staff from the refuge would survey waterfowl from the air and the ground on a routine basis. The refuge would continue to allow the six priority public use activities, but would have the capacity to increase the number of opportunities. The staff would conduct environmental education and interpretation programs once a month. An interpretive trail with brochure and photo blind would be established. The staff would also monitor pest plants and animals and control them according to an integrated Pest Management Plan. There would be eight staff members stationed at the Cedar Island National Wildlife Refuge.

Actions Common to All Alternatives

All three alternatives share the following concepts and techniques for achieving the goals of the refuge:

• Cooperating with local, State, and Federal agencies, and non-governmental organizations to administer refuge programs;

• Utilizing volunteers to execute the public use, biological, and maintenance programs on the refuge;

• Monitoring populations of waterfowl, shorebirds, and wading birds, and vegetation in the refuge impoundments;

• Maintaining vegetation in the marsh with prescribed fire; and

• Encouraging scientific research on the refuge.

Cedar Island National Wildlife Refuge, in east-central North Carolina, consists of 14,480 acres in fee simple ownership. On the refuge, 11,000 acres are brackish marsh, 1,500 acres are longleaf pine savanna, 150 acres are brackish shrub, 125 acres are pond pine woodland, 100 acres are bay forests, 100 acres are low pocosin, and 50 acres are cypress-gum swamp. These habitats support a variety of wildlife species, including waterfowl, shorebirds, wading birds, marsh birds, and neotropical migratory songbirds.

The refuge hosts more than thirty thousand visitors annually who participate in hunting, fishing, wildlife observation, wildlife photography, and environmental education and interpretation.

Authority: This notice is published under the authority of the National Wildlife Refuge System Improvement act of 1997, Public Law 105-57.

Dated: September 7, 2005.
Cynthia K. Dohner,
Acting Regional Director.

Editorial Note: This document was received at the Office of the Federal Register on February 9, 2006.

[FR Doc. 06-1347 Filed 2-13-06; 8:45 am]

BILLING CODE 4310-55-M